INTERNATIONAL DEVELOPMENT FINANCE CORPORATION

[DFC-014]

Submission for OMB Review; Comments Request

AGENCY: International Development Finance Corporation (DFC).

ACTION: Notice of information collection; request for comment.

SUMMARY: Under the provisions of the Paperwork Reduction Act, agencies are required to publish a Notice in the Federal Register notifying the public that the agency is renewing an existing information collection for OMB review and approval and requests public review and comment on the submission. Comments are being solicited on the need for the information; the accuracy of the burden estimate; the quality, practical utility, and clarity of the information to be collected; and ways to minimize reporting the burden, including automated collected techniques and uses of other forms of technology.

DATES: Comments must be received by October 19, 2020.

ADDRESSES: Comments and requests for copies of the subject information collection may be sent by any of the following methods:

• Mail: Joanna Reynolds, Agency Submitting Officer, U.S. International Development Finance Corporation, 1100 New York Avenue NW, Washington, DC 20527.

• Email: fedreg@opic.gov.

Instructions: All submissions received must include the agency name and agency form number or OMB form number for this information collection. Electronic submissions must include the agency form number in the subject line to ensure proper routing. Please note that all written comments received in response to this notice will be considered public records.

FOR FURTHER INFORMATION CONTACT: Agency Submitting Officer: Joanna Reynolds, (202) 357-3979.

SUPPLEMENTARY INFORMATION: DFC is submitting its Application for DPA-DFC Loan Program (DFC-014) to OMB for review and approval. This collection was previously granted an emergency clearance by OMB on June 5, 2020. The emergency clearance expires on December 31, 2020 and DFC is now seeking a regular clearance.

Summary Form Under Review

Title of Collection: Application for DPA-DFC Loan Program.

Type of Review: Extension without change of a currently approved information collection.

Agency Form Number: DFC-014.

OMB Form Number: 3015-0013.

Frequency: Once per investor per project.

Affected Public: Business or other for-profit; not-for-profit institutions; individuals.

Total Estimated Number of Annual Number of Respondents: 100.

Estimated Time Per Respondent: 1 hour.

Total Estimated Number of Annual Burden Hours: 100 hours.

Abstract: DFC-014 Application for DFC-DPA Loan Program is the principal document to be used by the U.S. International Development Finance Corporation (“DFC”) to determine if the proposed transaction is eligible for DFC-DPA financing and whether it meets required underwriting criteria.

Dated: August 17, 2020.
Nichole Skoyles,
Administrative Counsel, Office of the General Counsel.

[FR Doc. 2020-18297 Filed 8-19-20; 8:45 am]

BILLING CODE 3210-01-P